DEPARTMENT OF TRANSPORTATION

Office of the Secretary

14 CFR Part 382

[Docket No. DOT-OST-2015-0246]

RIN 2105-AE12

Nondiscrimination on the Basis of Disability in Air Travel; Consideration of Negotiated Rulemaking Process

AGENCY: Office of the Secretary, Department of Transportation.

ACTION: Notice of intent; extension of comment period.

SUMMARY: This document extends the comment period for the notice of intent that was published in the Federal Register on Monday, December 7, 2015. The notice announced that the Department of Transportation (“Department” or “DOT”) is exploring the feasibility of conducting a negotiated rulemaking (reg neg) concerning accommodations for air travelers with disabilities addressing inflight entertainment, supplemental medical oxygen, service animals, accessible lavatories on single-aisle aircraft, seating accommodations, and carrier reporting of disability service requests.

DATES: The deadline for submitting comments on the notice of intent published on December 7, 2015, (80 FR 75953), is extended from January 6, 2016 to January 21, 2016.

ADDRESSES: You may submit comments identified by docket number DOT-OST-2015-0246 using any one of the following methods:

• Federal eRulemaking Portal: http://www.regulations.gov.

• Fax: 202-493-2251.

• Mail: Docket Management Facility (M-30), U.S. Department of Transportation, West Building Ground Floor, Room W12-140, 1200 New Jersey Ave. SE., Washington, DC 20590.

FOR FURTHER INFORMATION CONTACT: Kathleen Blank Riether, Senior Attorney, Office of Aviation Enforcement and Proceedings, U.S. Department of Transportation, by email at kathleen.blankriether@dot.gov or by telephone at 202-366-9342. To obtain a copy of this notice in an accessible format, you may also contact Kathleen Blank Riether.

SUPPLEMENTARY INFORMATION: On December 7, 2015, the Department announced its intention to explore the feasibility of conducting a reg neg to:

• Ensure that the same in-flight entertainment (IFE) available to all passengers is accessible to passengers with disabilities;

• Provide individuals dependent on in-flight medical oxygen greater access to air travel consistent with Federal safety and security requirements;

• Determine the appropriate definition of a service animal;

• Establish safeguards to reduce the likelihood that passengers wishing to travel with their pets will be able to falsely claim that their pets are service animals;

• Address the feasibility of accessible lavatories on new single aisle aircraft;

• Address whether premium economy is a different class of service from standard economy as airlines are required to provide seating accommodations to passengers with disabilities within the same class of service; and

• Require airlines to report annually to the Department the number of requests for disability assistance they receive and the time period within which wheelchair assistance is provided to passengers with disabilities.

The Department requested that all comments be submitted no later than January 6, 2016.

On December 21, 2015, the Department received a letter from 11 disability advocacy organizations representing diverse interests expressing their concern that the designated comment period does not allow enough time for stakeholders to fully consider the impact of engaging in a negotiated rulemaking on these issues of critical concern to people with disabilities. The disability advocacy organizations noted that as a result of the holidays, the 30-day comment period is effectively reduced by nearly two weeks. They noted that the notice and comment process would be more effective if all stakeholders had sufficient time to consider and comment on the efficacy of conducting a negotiated rulemaking on each of the proposed issues.

We agree that an extension of the comment period is appropriate given the effective shortening of the comment period by observance of the holidays. We believe that a 15-day extension to the comment filing period is reasonable to provide stakeholders with ample opportunity to more fully analyze and respond to the issues to be considered during the reg neg. Accordingly, the deadline for filing comments is extended to January 21, 2016.

Issued on December 29, 2015, under authority delegated in 49 CFR 1.27.
Kathryn B. Thomson,
General Counsel.

[FR Doc. 2015-33150 Filed 1-4-16; 8:45 am]

BILLING CODE P